DEPARTMENT OF DEFENSE

Office of the Secretary

Federal Advisory Committee Meeting; Military Leadership Diversity Commission

AGENCY: Office of the Under Secretary of Defense for Personnel and Readiness, DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the following Federal Advisory Committee meeting will take place:

1. Name of Committee: Military Leadership Diversity Commission (MLDC).

2. Dates: December 15 and 16, 2009.

3. Times: 8 a.m. to 6 p.m., December 15 and 16, 2009.

4. Location: Omni San Diego Hotel, 675 L Street, San Diego, California 92101.

5. Purpose of the Meeting: The purpose of the meeting is for the commissioners of the Military Leadership Diversity Commission to continue their efforts to address congressional concerns as outlined in the commission charter.

6. Agenda:

December 15, 2009

8 a.m.-11:30 a.m.

DFO opens the meeting.

Commission Chairman opening remarks.

Open discussion on definition of diversity.

Open discussion on recruiting and outreach.

Steve L. Robbins briefs the Commission on his experience in assisting private and public organizations going beyond representational diversity.

11:30 a.m.

DFO recesses the meeting.

12:30 p.m.-6 p.m.

DFO opens meeting.

Bill Leftwich briefs the Commission on his experience in implementing DoD diversity initiatives.

Pegine Echevarria briefs the Commission on her experience in assisting private and public organizations to improve their workforce diversity.

Open discussion on career development: branching and assignments.

Open discussion on career development: diversity management and training.

Time available for public comments.

6 p.m.

Commission Chairman closing remarks.

DFO adjourns the meeting.

December 16, 2009

8 a.m.-1 p.m.

DFO opens the meeting.

Commission Chairman opening remarks.

Open discussion on legal implications of diversity policy.

Military Services have the service specific organization responsible for promotions brief the commission on:

• Their promotion process.

• How they ensure that the process is fair.

11:30 a.m.

DFO recesses the meeting.

12:30 p.m.-6 p.m.

DFO opens the meeting.

Military Services have the service specific organization responsible for promotions brief the commission on:

• Their promotion process.

• How they ensure that the process is fair.

Open discussion on the way forward.

Time available for public comments.

6 p.m.

Commission Chairman closing remarks.

DFO adjourns the meeting.

7. Public's Accessibility to the Meeting: Pursuant to 5 U.S.C. 552b and 41 CFR 102-3.140 through 102-3.165, and the availability of space, the meetings on December 15 and 16, 2009 will be open to the public.

Please note that the availability of seating is on a first-come basis.

8. Committee's Designated Federal Officer or Point of Contact: Master Chief Steven A. Hady, Designated Federal Officer, MLDC, at (703) 602-0838 or (703) 347-5295, 1851 South Bell Street, Suite 532, Arlington, VA. E-mail Steven.Hady@wso.whs.mil.

9. Supplementary information: Pursuant to 41 CFR 102-3.105(j) and 102-3.140, and section 10(a)(3) of the Federal Advisory Committee Act of 1972, the public or interested organizations may submit written statements to the Military Leadership Diversity Commission about its mission and functions. Written statements may be submitted at any time or in response to the stated agenda of a planned meeting of the Military Leadership Diversity Commission.

All written statements shall be submitted to the Designated Federal Officer for the Military Leadership Diversity Commission, and this individual will ensure that the written statements are provided to the membership for their consideration. Contact information for the Designated Federal Officer can be obtained from the GSA's FACA Database— https://www.fido.gov/facadatabase/public.asp.

Statements being submitted in response to the agenda mentioned in this notice must be received by the Designated Federal Officer at the address listed above under “Committee's Designated Federal Officer or Point of Contact” at least five calendar days prior to the meeting which is the subject of this notice. Written statements received after this date may not be provided to or considered by the Military Leadership Diversity Commission until its next meeting.

The Designated Federal Officer will review all timely submissions with the Military Leadership Diversity Commission Chairperson and ensure they are provided to all members of the Military Leadership Diversity Commission before the meeting that is the subject of this notice.

10. For Further Information Contact: Master Chief Steven A. Hady, Designated Federal Officer, MLDC, at (703) 602-0838, 1851 South Bell Street, Suite 532, Arlington, VA. E-mail Steven.Hady@wso.whs.mil.

Dated: November 24, 2009.
Mitchell S. Bryman,
Alternate OSD Federal Register Liaison Officer, Department of Defense.

[FR Doc. E9-28479 Filed 11-27-09; 8:45 am]

BILLING CODE 5001-06-P